DEPARTMENT OF TRANSPORTATION

Federal Railroad Administration

Petition for Waiver of Compliance

In accordance with Part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief.

Santa Clara Valley Transportation Authority

[Docket Number FRA-1999-6254]

As a second supplement to Santa Clara Valley Transportation Authority's (VTA) existing Shared Use/Temporal Separation waiver for its Tasman West Line originally granted by the FRA on July 7, 2000 (a 5-year extension was granted on September 26 , 2005), VTA requests that the FRA consider reclassifying the 1.6-mile shared segment (called the Moffett Drill Track) as a “Plant Railroad” not part of the General Railroad System. VTA is also requesting a waiver from the FRA Locomotive Horn Rule, 49 CFR parts 222 and 229, at all highway grade crossings along the 1.6-mile Moffett Drill Track as long as this track is considered part of the General Railroad System. VTA seeks a permanent waiver of compliance from all sections of Title 49 of the CFR if the FRA agrees that the Moffett Drill Track should not be classified as part of the General Railroad System. (See Statement of Agency Policy Concerning Jurisdiction Over the Safety of Railroad Passenger Operations and Waivers Related to Shared Use of the Tracks of the General Railroad System by Light Rail and Conventional Equipment, 65 FR 42529. See also Joint Statement of Agency Policy Concerning Shared Use of the Tracks of the General Railroad System by Conventional Railroads and Light Rail Transit Systems, 65 FR 42526.)

VTA Tasman West LRT Line is a two-track, 7.6-mile urban rapid transit light rail line owned and operated by VTA within the City of Mountain View, City of Sunnyvale, and County of Santa Clara, California. A 1.6-mile segment of this LRT Line, called the Moffett Drill Track, features 2 tracks and 11 grade crossings and is shared with freight service of the Union Pacific Railroad Company (UP). This Moffett Drill Track segment is nominally connected to the General Railroad System (connection exists at the westward terminus of the Tasman West LRT Line at the Downtown Mountain View Station with mainline tracks used by UPRR and Caltrain) by virtue of a contractual right of a single shipper for freight service to the NASA-Ames Research Center, a right that has not been exercised in the last 12 years.

VTA states that considering the total absence of freight service on this segment for the last 12 years, and the heavy restrictions which would be placed on any such movement, that the term “shared” is technical in name only and well below the level of activity which would justify application of FRA regulations to a light rail operation. Further, the character of the freight operation across the Moffett Drill Track is equivalent to providing service to a shipper facility that is not considered to be part of the General Railroad System, except when a UP freight train operating in interstate commerce actually enters the facility. In this case, unless and until the NASA-Ames Research Center actually requests and schedules the UP to enter its facility, then the FRA should waive jurisdiction over light rail operations on this 1.6-mile shared track segment. VTA states that it has received numerous noise complaints because its light rail vehicles (LRV) must blow their horns in the manner prescribed in the Locomotive Horn Rule as per 49 CFR parts 222 and 229. Its LRVs cross the 11 highway grade crossings 114 times per day from 0400 a.m. until 0100 a.m. daily, and utilize a horn with a decibel range from 85dB to 97dB. Given the history of nonexistent freight operations on this 1.6-mile segment, VTA contends a waiver of the Horn Rule requirements is more suitable and practical than establishing a quiet zone. In the event NASA-Ames Research Center does request freight service, UP remains subject to FRA regulations, and VTA will adhere to the terms and conditions of the current Shared Use Waiver with movement on the Moffett Drill Track heavily restricted, including full temporal separation.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (FRA-1999-6254) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on December 6, 2006.
Grady C. Cothen, Jr.,
Deputy Associate Administrator for Safety Standards and Program Development.

[FR Doc. E6-21012 Filed 12-11-06; 8:45 am]

BILLING CODE 4910-06-P